DEPARTMENT OF THE INTERIOR

Bureau of Land Management

[LLNVW01000.L51100000.GN0000. LVEMF1907180.19XMO#4500150554]

Notice of Availability of the Draft Environmental Impact Statement for the Proposed Gold Acquisition Corporation Relief Canyon Gold Mine Phase II Mine Expansion Amendment, Pershing County, Nevada

AGENCY: Bureau of Land Management, Interior.

ACTION: Notice of availability.

SUMMARY: In accordance with the National Environmental Policy Act of 1969, as amended (NEPA), and the Federal Land Policy and Management Act of 1976, as amended, the Bureau of Land Management (BLM) Humboldt River Field Office, Winnemucca, Nevada has prepared a Draft Environmental Impact Statement (EIS) to analyze the potential impacts of approving the proposed expansion to the Relief Canyon gold mining operation in Pershing County, Nevada. This notice announces the beginning of the public comment period to solicit public comments on the Draft EIS.

DATES: To ensure comments will be considered, BLM must receive written comments on the Draft EIS no later than 45 days after the Environmental Protection Agency publishes its notice of availability of the Relief Canyon Mine Expansion Project Draft EIS DOI-BLM-NV-W010-2020-0030-EIS in the Federal Register. The BLM will announce the dates and locations of any future meetings or hearings and any other public involvement activities at least 15 days in advance through local media, newspapers and the BLM website at: https://www.blm.gov/office/winnemucca-district-office.

ADDRESSES: You may submit comments related to the Project by any of the following methods:

• Website: https://eplanning.blm.gov/eplanning-ui/project/2000567/510.

• Email: wfoweb@blm.gov, include “Relief Canyon Mine Expansion” in the subject line.

• Fax: (775) 623-1740, please mark “Attn: Relief Canyon Mine Expansion”.

• Mail: Bureau of Land Management, Attn: Relief Canyon Mine Expansion, 5100 East Winnemucca Boulevard, Winnemucca, NV 89445.

FOR FURTHER INFORMATION CONTACT: For questions about the proposed Project contact Ms. Jeanette “Jean” Black, telephone: (775) 623-1500, address: 5100 EastWinnemuccaBoulevard, Winnemucca, NV 89445. Contact Ms. Black to have your name added to our mailing list. Persons who use a telecommunications device for the deaf (TDD) may call the Federal Relay Service (FRS) at 1-800-877-8339 to contact the above individual during normal business hours. The FRS is available 24-hours a day, 7-days a week, to leave a message or question with the above individual. You will receive a reply during normal business hours.

SUPPLEMENTARY INFORMATION: Gold Acquisition Corporation (GAC), a wholly-owned subsidiary of Pershing Gold Corporation, itself a wholly-owned subsidiary of Americas Gold and Silver Corporation, proposes an expansion to the existing Relief Canyon Gold Mine. The mine is located in Pershing County, Nevada, approximately 16 miles east-northeast of Lovelock, Nevada. The proposed expansion is located within GAC's authorized Plan of Operations boundary and proposes to modify the existing Plan of Operations as follows:

• Create roughly 576 acres of new surface disturbance on public and private land including re-disturbance of about 137 acres of previously disturbed vegetation communities.

• Expand the footprint of the existing approved pit area by approximately 84 acres (68 acres of public land and 16 acres of private land) with resultant elimination of a portion of existing Waste Rock Storage Facility (WRSF) 4.

• Mine to final pit bottom elevation of 4,420 feet above mean sea level (ft amsl), which will involve continued mining below the water table, and result in a post-mining pit lake that is predicted to reach an equilibrium elevation of 4,887 ft amsl roughly 50 years after completion of mining.

• Construct a dewatering conveyance pipeline and Rapid Infiltration to re-infiltrate up to 900 gallons per minute of mine dewatering water during the last three months of proposed Phase II mining.

• Install up to 50 vertical and horizontal drains in the pit wall to ensure pit slope stability and supplement pit dewatering operations.

• Convert up to 50 exploration drill holes located in and adjacent to the pit as vertical or near vertical drains and/or piezometer to monitor water levels to ensure pit slope stability and supplement pit dewatering operations.

• Expand WRSFs, heap leach pads, and construct process ponds, new growth media stockpiles, diversion ditches for stormwater control, and ancillary facilities.

• Expand yard and crusher-conveyor areas, roads, and fences.

• Close and reclaim all project facilities at the completion of Phase II.

Draft EIS Analysis Process

The purpose of the comment period is for the public to comment on the Draft EIS. The Draft EIS, through scoping, has identified and analyzed impacts to the following resources: Air and atmospheric resources, migratory birds and special status species, golden eagles, water quality (creation of a pit lake), and groundwater quantity. The Draft EIS describes and analyzes the proposed Project's direct, indirect, and cumulative impacts on all affected resources.

The BLM has consulted and continues to consult with Native American tribes on a government-to-government basis in accordance with Executive Order 13175 and other policies. Tribal concerns, including impacts on Indian trust assets and potential impacts to cultural resources, will be given due consideration.

Federal, State, and local agencies, along with tribes and other stakeholders that may be interested in or affected by the proposed project that the BLM is evaluating, are invited to participate in the comment process.

Before including your address, phone number, email address, or other personal identifying information in your comment, you should be aware that your entire comment—including your personal identifying information—may be made publicly available at any time. While you may request in your comment that your personal identifying information be withheld from public review, we cannot guarantee that we will be able to do so.

Authority: 40 CFR 1501.7.

Ester M. McCullough,
District Manager, Winnemucca District Office.

[FR Doc. 2021-00962 Filed 1-15-21; 8:45 am]

BILLING CODE 4310-HC-P